DEPARTMENT OF STATE

[Public Notice 6190]

Policy on Review Time for License Applications

AGENCY: Department of State.

ACTION: Notice.

In National Security Presidential Directive—56, Defense Trade Reform, signed January 22, 2008, the Department of State was directed to complete the review and adjudication of license applications within 60 days of receipt, except in cases where national security exceptions apply. The President further directed that these exceptions be published. In accordance with that directive, the Directorate of Defense Trade Controls has implemented procedures to ensure that this 60 day requirement is affected, except when the following the national security exceptions are applicable:

(1) When a Congressional Notification is required: The Arms Export Control Act Section 36(c) and (d) and the International Traffic in Arms Regulations, 22 CFR 123.15, requires a certification be provided to Congress prior to granting any license or other approval for transactions, if it meets the requirements identified for the sale of major defense equipment, manufacture abroad of significant military equipment, defense articles and services, or the re-transfer to other nations. Notification thresholds differ based on the dollar value, countries concerned and defense articles and services.

(2) Required Government Assurances have not been received. These would include, for example, Missile Technology Control Regime Assurances, and Cluster Munitions assurances.

(3) End-use Checks have not been completed. (Commonly referred to as “Blue Lantern” checks. End-use checks are key to the U.S. Government's prevention of illegal defense exports and technology transfers, and range from simple contacts to verifying the bona fides of a transaction to physical inspection of an export.)

(4) Department of Defense has notified the Directorate of Defense Trade Controls that an overriding national security exception exists.

(5) Requires a Waiver of Restrictions. (For example, a sanctions waiver.)

Dated: April 8, 2008.
Frank J. Ruggiero,
Deputy Assistant Secretary for Defense Trade and Regional Security, Department of State.

[FR Doc. E8-8070 Filed 4-14-08; 8:45 am]

BILLING CODE 4710-25-P